DEPARTMENT OF TRANSPORTATION

Federal Aviation Administration

Notice of Intent To Rule on Request To Release Airport Property at Nick Wilson Field, Pocahontas, AR

AGENCY: Federal Aviation Administration (FAA), DOT.

ACTION: Notice of request to release airport property.

SUMMARY: The FAA proposes to rule and invites public comment on the release of land at Nick Wilson Field under the provisions of title 49 United States Code, section 47153.

DATES: Comments must be received on or before January 14, 2005.

ADDRESSES: Comments on this application may be mailed or delivered to the FAA at the following address: Mr. Edward N. Agnew, Manager, Federal Aviation Administration, Southwest Region, Airports Division, Arkansas/Oklahoma Airports Development Office, ASW-630, Forth Worth, Texas 76193-0630.

In addition, one copy of any comments submitted to the FAA must be mailed or delivered to Major Gary Crocker, City of Pocahontas, at the following address: City of Pocahontas, 410 North Marr Street, Pocahontas, AR 72455.

FOR FURTHER INFORMATION CONTACT: Mr. Paul Burns, Program Manager, Federal Aviation Administration, Arkansas/Oklahoma Airports Development Office, ASW-630, 2601 Meacham Boulevard, Fort Worth, Texas 76193-0630.

The request to release property may be reviewed in person at this same location.

SUPPLEMENTARY INFORMATION: The FAA invites public comment on the request to release property at Nick Wilson Field under the provisions of the Act.

On November 16, 2004, the FAA determined that the request to release property at Nick Wilson Field submitted by the city of Pocahontas met the procedural requirements of the Federal Aviation Regulations, part 155. The FAA may approve the request, in whole or in part, no later than January 16, 2005.

The following is a brief overview of the request:

The city of Pocahontas requests the release of 5.053 acres of airport property. The release of property and its subsequent sale will allow for the reconstruction of an aircraft parking hangar. The sale is estimated to provide $25,000.00, all of which will be used on the hanger reconstruction.

Any person may inspect the request in person at the FAA office listed above under FOR FURTHER INFORMATION CONTACT.

In addition, any person may, upon request, inspect the application, notice and other documents germane to the application in person at the Nick Wilson Field.

Issued in Fort Worth, Texas on November 22, 2004.
Naomi L. Saunders,
Manager, Airports Division.

[FR Doc. 04-27456 Filed 12-14-04; 8:45 am]

BILLING CODE 4910-13-M